DEPARTMENT OF DEFENSE

Department of the Air Force

Establishment and Operation of an Intelligence, Surveillance, Reconnaissance, and Strike Capability, Andersen Air Force Base, Guam

AGENCY: Department of the Air Force.

ACTION: Record of Decision (ROD).

SUMMARY: On January 12, 2007, the United States Air Force signed the ROD for the Establishment and Operation of an Intelligence, Surveillance, Reconnaissance, and Strike Capability, Andersen Air Force Base, Guam. The decision was based on matters discussed in the Final Environmental Impact Statement (EIS), inputs from the public and regulatory agencies, and other relevant factors. The Final EIS was made available on November 24, 2006 in the Federal Register (Volume 71, Number 226, Page 67864) with a wait period ending December 26, 2006. The Air Force was the National Environmental Policy Act (NEPA) lead agency with the Department of the Navy acting as a Cooperating Agency under NEPA. The ROD documents only the decision of the Air Force with respect to the proposed Air Force actions analyzed in the Final EIS.

FOR FURTHER INFORMATION: Jonathan Wald, 36 Civil Engineer Squadron, 671-366-2549.

Bao-Anh Trinh,
DAF, Air Force Federal Register Liaison Officer.

[FR Doc. E7-893 Filed 1-22-07; 8:45 am]

BILLING CODE 5001-05-P